DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collections: (1) Application to Employ Special Industrial Homeworkers and Workers with Disabilities (WH-2, WH-226, and WH-226A); and (2) Request for Employment Information (CA-1027). Copies of the proposed information collection requests can be obtained by contacting the office listed below in the addressee section of this Notice.

DATES: Written comments must be submitted to the office listed in the addressee section below on or before December 18, 2000.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

Applications To Employ Special Industrial Homeworkers and Workers With Disabilities (WH-2, WH-226, WH-226A)

I. Background

Section 11(d) of the Fair Labor Standards Act (FLSA) authorizes the Secretary of Labor to regulate, restrict, or prohibit industrial homework as necessary to prevent evasion of the minimum wage requirements of the Act. The Department of Labor has restricted homework in seven industries to those employees who obtain certificates. Individual certificates may be issued to any industry for an individual homeworker who is unable to leave home because of a disability or must remain home to care for an invalid. Section 14c of the FLSA provides for the employment of workers with disabilities at subminimum wages in order to prevent curtailment of employment opportunities for such individuals. Employers utilizing the provisions of Section 14c must obtain certificates issued by the Department of Labor. The WH-2 is used by employers to obtain certificates to employ individual homeworkers in one of the restricted homework industries. The WH-226 and supplemental data Form 226A are used by employers to obtain authorization to employ workers with disabilities in certain establishments at subminimum wages.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to provide employers wishing to employ homeworkers and workers with disabilities under the provisions of sections 11(d) and 14(c) of the FLSA, with the necessary certificates for such employment.

Type of Review: Extension.

Agency: Employment Standards Administration.

Title: Application for Special Industrial Homeworker's Certificate (WH-2); Application for Authority to Employ Workers with Disabilities at Special Minimum Wages (WH-226); Supplemental Data Sheet for Application for Authority to Employ Workers with Disabilities at Special Minimum Wages (WH-226A).

OMB Number: 1215-0005.

Agency Numbers: WH-2, WH-226, WH-226A.

Affected Public: Individuals or households; Business or other for-profit; Farms; Not-for-profit institutions; State, Local, or Tribal Government.

Frequency: On occasion.

Form | Respondents | Responses | Time per response (min) | Burden hours
WH-2 | 50 | 50 | 30 | 25
WH-226 | 4,500 | 4,500 | 45 | 3,375
WH-226A | 4,500 | 12,000 | 45 | 9,000

Total Respondents: 4,550.

Total Responses: 16,550.

Estimate Total Burden Hours: 12,400.

Total Burden Cost (capital/startup): $0.

Total Burden Cost (operating/maintenance): $1,638.

Comments submitted in response to this notice will be summarized and/or included in the request for Office of Management and Budget approval of the information collection request; they will also become a matter of public record.

Request for Employment Information (CA-1027)

I. Background

Payment of compensation for partial disability to injured Federal workers is required by 5 U.S.C. 8106. That section also requires the Office of Workers' Compensation Programs (OWCP) to obtain information regarding a claimant's earnings during a period of eligibility to compensation. The CA-1027, Request for Employment Information, is the form used to obtain information for an individual who is employed by a private employer. The information is used to determine the claimant's entitlement to compensation benefits.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to determine a claimant's eligibility for compensation benefits.

Review: Extension.

Agency: Employment Standards Administration.

Title: Request for Earnings Information.

OMB Number: 1215-0105.

Agency Numbers: CA-1027.

Affected Public: Business or other for-profit.

Frequency: On occasion.

Total Respondents: 500.

Total Responses: 500.

Time Per Response: 15 minutes.

Estimated Total Burden Hours: 125.

Total Burden Cost (capital/startup): $0.

Total Burden Cost (operating/maintenance): $180.

Comments submitted in response to this notice will be summarized and/or included in the request for Office of Management and Budget approval of the information collection request; they will also become a matter of public record.

Dated: October 13, 2000.
Margaret J. Sherrill,
Chief, Branch of Management Review and Internal Control, Division of Financial Management Office of Management, Administration and Planning, Employment Standards Administration.

[FR Doc. 00-26883 Filed 10-18-00; 8:45 am]

BILLING CODE 4510-27-M